ENVIRONMENTAL PROTECTION AGENCY

[FRL-7846-9]

Notice of Availability and Opportunity To Provide Comment on the Framework for Inorganic Metals Risk Assessment (External Review Draft)(ORD-2004-0017)

AGENCY: Environmental Protection Agency (EPA).

ACTION: Notice of Availability and Public Comment Period.

SUMMARY: EPA is today announcing the availability of the draft Framework for Inorganic Metals Risk Assessment and the beginning of the public comment period on the draft document. This draft document will be peer reviewed by the U.S. Environmental Protection Agency's (EPA) Science Advisory Board at a public meeting that will be announced in a separate Federal Register notice.

DATES: Comments should be received by Tuesday, January 18, 2005.

ADDRESSES:

Document Availability

The Framework for Inorganic Metals Risk Assessment (External Review Draft, November 2004, EPA/630/P-04068c) will be available on or about December 20, 2004, on the Internet at http://cfpub2.epa.gov/ncea/raf/recordisplay.cfm?deid=88903. A limited number of paper copies will be available from the EPA's Technical Information Staff, National Center for Environmental Assessment (NCEA), Mail Code 8623D, Washington, DC 20460; telephone: 202-564-3261; facsimile: 202-565-0050. Please provide your name and mailing address and the title and EPA number of the requested publication.

Submitting Comments

One of three methods may be chosen to submit comments. First, comments may be submitted through EPA's electronic public docket and comment system, EPA Dockets. EPA Dockets is available at http://www.epa.gov/edocket/. Once in the system, select “Submit Comments,” then key in the appropriate Docket Identification Number (ORD-2004-0017). Second, comments may be submitted via e-mail to “ORD.Docket@epa.gov.” Third, paper copies of comments may be submitted (in duplicate if possible) to the Docket at the U.S. Environmental Protection Agency, EPA Docket Center (EPA/DC), Office of Research and Development Docket (28221T), 1200 Pennsylvania Avenue, NW., Washington, DC 20460. Please refer to Docket Identification Number ORD-2004-0017 in e-mail and in paper correspondence. Acknowledgments will not be sent for electronic or paper comment submissions. Persons providing information or comments should not submit personal information (such as medical data or home address), Confidential Business Information, or information protected by copyright because all comments will be made available for public viewing.

Viewing Comments

EPA intends to make all comments received in response to this Federal Register notice available via Internet (http://www.epa.gov/edocket/), including documents originally submitted in paper format. To view comments select “Quick Search,” then key in the appropriate Docket Number (ORD-2004-0017). Alternatively you may visit the EPA Office of Environmental Information(OEI) Docket in the Headquarters EPA Docket Center, (EPA/DC) EPA West Building, Room B102, 1301 Constitution Avenue, NW., Washington, DC 20460. The EPA Docket Center Public Reading Room is open from 8:30 a.m. to 4:30 p.m., Monday through Friday, excluding legal holidays. The telephone number for the Public Reading Room is (202) 566-1744, and the telephone number for the OEI Docket is (202) 566-1752; facsimile: (202) 566-1753; or e-mail: ORD.Docket@epa.gov. Visitors to the Public Reading Room are required to show photographic identification and sign the Agency's visitor log. There may be a reasonable fee for copying docket materials, as provided in 40 CFR part 2.

FOR FURTHER INFORMATION CONTACT: Dr. William P. Wood, Risk Assessment Forum (Mail Code 8601D), U.S. Environmental Protection Agency, 1200 Pennsylvania Avenue, NW., Washington, DC 20460, telephone 202-564-3361, or send electronic mail inquiries to risk.forum@epa.gov.

SUPPLEMENTARY INFORMATION:

Background

The Agency recognizes that inorganic metals and metal compounds present unique issues and the added challenge of addressing the complexity of these issues in a consistent manner across the Agency's programs. The draft metals framework reflects an EPA effort to develop cross-agency internal guidance for assessing metals. The overarching goals of the framework are to outline key metal-specific scientific principles and consistent approaches for conducting metals risk assessment, based on the best currently available science. Given the complexity of issues surrounding metals risk assessment, EPA commissioned recognized scientific experts to develop papers on key scientific issues related to risk assessment of metals. These issues included environmental chemistry, exposure, human health effects, ecological effects, and bioavailability and bioaccumulation. The draft framework relies heavily on these issue papers. Development of the framework has also involved extensive consultation with the scientific community, stakeholders, and intended users, including risk assessors in other federal agencies, in different regions, and in the states. Throughout the development process, the Agency has held stakeholder meetings and made the issue papers open for public comment. After peer review deliberation by EPA's Science Advisory Board (SAB) is complete and the framework is finalized, EPA program offices will be in a position to review their current practices against the recommendations of the metals framework and incorporate adjustments as necessary, consistent with the principles of the framework.

Disposition of Comments

EPA requests comments on today's framework and will consider comments in finalizing the document. EPA's SAB will peer-review the framework and will be asked to consider the public comments. A separate notice of the planned SAB meeting also will appear in the Federal Register.

Dated: December 3, 2004.
Peter Preuss,
Director, National Center for Environmental Assessment.

[FR Doc. 04-27667 Filed 12-15-04; 8:45 am]

BILLING CODE 6560-50-P